DEPARTMENT OF TRANSPORTATION

Surface Transportation Board

[STB Finance Docket No. 35043]

Four Rivers Transportation, Inc., Paducah and Louisville Railway, Inc., and Evansville Western Railway, Inc.—Corporate Family Transaction Exemption

Four Rivers Transportation, Inc. (Four Rivers), Paducah & Louisville Railway, Inc. (P&L), and Evansville Western Railway, Inc. (EVWR) (collectively, parties) have filed a verified notice of exemption under 49 CFR 1180.2(d)(3) for a transaction within a corporate family. The proposed transaction involves the restructuring of the Four Rivers corporate family.

Four Rivers, a noncarrier, currently directly owns and controls P&L and the Appalachian & Ohio Railroad, Inc. (A&O). P&L directly owns and controls EVWR. Through P&L, Four Rivers indirectly controls EVWR. P&L is a Class II rail carrier that owns and operates approximately 262 miles of rail line, all within the Commonwealth of Kentucky, and EVWR is a Class III rail carrier that operates approximately 124 miles of rail line in Illinois and Indiana. A&O is a Class III rail carrier that leases and operates over 158 miles of rail line, all located within West Virginia.¹

¹ See Paducah & Louisville Railway, Inc.—Acquisition—CSX Transportation, Inc., STB Finance Docket No. 34738 (STB served Nov. 18, 2005); Evansville Western Railway, Inc.—Acquisition and Operation Exemption—Paducah & Louisville Railway, Inc., STB Finance Docket No. 34738 (Sub-No. 1) (STB served Nov. 18, 2005); Four Rivers Transportation, Inc. and Paducah & Louisville Railway, Inc.—Continuance in Control Exemption—Evansville Western Railway, Inc., STB Finance Docket No. 34738 (Sub-No. 2) (STB served Nov. 18, 2005); and Four Rivers Transportation, Inc.—Control Exemption—Appalachian & Ohio Railroad, Inc., STB Finance Docket No. 34856 (STB served May 23, 2006).

The parties propose to consummate the transaction on or after August 23, 2007.

The restructuring will allow the transfer of direct control of EVWR from P&L to Four Rivers and provide a more efficient corporate structure.

This is a transaction within a corporate family of the type specifically exempted from prior review and approval of 49 CFR 1180.2(d)(3). According to the parties, the transaction will not result in adverse changes in service levels, significant operational changes, or changes in the competitive balance with carriers outside the corporate family.

Under 49 U.S.C. 10502(g), the Board may not use its exemption authority to relieve a rail carrier of its statutory obligation to protect the interests of its employees. Because the transaction involves the control of one Class II and one or more Class III rail carriers, the exemption is subject to the labor protection requirements of 49 U.S.C. 11326(b).

If the verified notice contains false or misleading information, the exemption is void ab initio. Petitions to revoke the exemption under 49 U.S.C. 10502(d) may be filed at any time. The filing of a petition to revoke will not automatically stay the effectiveness of the exemption. Stay petitions must be filed no later than August 15, 2007 (at least 7 days before the exemption becomes effective).

An original and 10 copies of all pleadings, referring to STB Finance Docket No. 35043, must be filed with the Surface Transportation Board, 395 E. Street, SW., Washington, DC 20423-0001. In addition, a copy of each pleading must be served on William A. Mullins, Baker & Miller PLLC, 2401 Pennsylvania Avenue, NW., Suite 300, Washington, DC 20037.

Board decisions and notices are available on our Web site at http://www.stb.dot.gov.

Decided: July 31, 2007.
By the Board, David M. Konschnik, Director, Office of Proceedings.
Vernon A. Williams,
Secretary.

[FR Doc. E7-15318 Filed 8-7-07; 8:45 am]

BILLING CODE 4915-01-P